NATIONAL AERONAUTICS AND SPACE ADMINISTRATION

[Notice 07-004]

NASA Advisory Council Workshop on Science Associated With the Lunar Exploration Architecture

AGENCY: National Aeronautics and Space Administration.

ACTION: Notice of meeting.

SUMMARY: The Science Committee of the NASA Advisory Council (the Council) announces a workshop of its Science Subcommittees. The Workshop on Science Associated with the Lunar Exploration Architecture will be held for the purpose of soliciting from the scientific community scientific and technical information relevant to planning the science objectives and activities associated with lunar exploration within the framework of the Vision for Space Exploration.

DATES: Tuesday, February 27, 2007, 8 a.m. to 5 p.m., Wednesday, February 28, 2007, 8 a.m. to 8 p.m., Thursday, March 1, 2007, 8 a.m. to 5 p.m., and Friday, March 2, 2007, 8 a.m. to 11 a.m., Mountain Standard Time (MST).

Location: Fiesta Inn Resort, 2100 South Priest Drive, Tempe, AZ, 85282.

FOR FURTHER INFORMATION CONTACT: Dr. Michael Wargo, Exploration Systems Mission Directorate, NASA Headquarters, Washington, DC 20546, (202) 358-0822 or michael.wargo@nasa.gov or Ms. Lisa May, Science Mission Directorate, NASA Headquarters, Washington, DC 20546, (202) 358-2411 or lisa.may@nasa.gov.

SUPPLEMENTARY INFORMATION: The Workshop will feature plenary sessions by NASA officials on the Lunar Exploration Architecture and by members of the science community on potential science activities and objectives. Following the opening plenary session, the Workshop will break out into meetings of the Astrophysics Subcommittee, Earth Sciences Subcommittee, Heliophysics Subcommittee, Planetary Sciences Subcommittee, and Planetary Protection Subcommittee, and into cross-cutting topical sessions. The breakout sessions will focus on:

(1) Defining the key objectives of science associated with, or enabled by, lunar exploration;

(2) Discussing implementation to achieve the objectives;

(3) Prioritizing objectives within the framework of the emerging lunar architecture.

The overall objective of the Workshop is to provide input from the scientific community through the Advisory Council to NASA regarding recommendations for science associated with the return to the Moon.

The Workshop will be open to the public and scientific community up to the seating capacity of the rooms. A poster session will be organized for the presentation of contributed white papers, on Wednesday evening, February 28, 2007.

Information concerning all aspects of the Workshop can be found online at: https://www.infonetic.com/tis/lea/. Findings and recommendations developed by the Subcommittees during the Workshop will be submitted to the Science Committee of the NASA Advisory Council and, subsequently, to the Council as a whole for possible deliberation on recommendations to NASA regarding planning and implementation of its Lunar Exploration Architecture and related science programs.

Dated: January 26, 2007.
P. Diane Rausch,
Advisory Committee Management Officer, National Aeronautics and Space Administration.

[FR Doc. E7-1649 Filed 1-31-07; 8:45 am]

BILLING CODE 7510-13-P